DEPARTMENT OF COMMERCE

National Institute of Standards and Technology

AGENCY: National Institute of Standards and Technology, Commerce.

ACTION: Notice of Inventions Available for Licensing.

SUMMARY: The inventions listed below are owned in whole or part by the U.S. Government, as represented by the Secretary of Commerce. The U.S. Government's interest in these inventions is available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the inventions for purposes of commercialization. The inventions available for licensing are:

[Nist Docket Number: 07-016].

Title: Far Ultraviolet Dosimeter for Slow Neutron Detection.

Abstract: This invention is jointly owned by the Department of Commerce and University of Maryland. The invention consists of a method for detecting slow neutrons by monitoring Lyman alpha radiation produced by the n(³He,t)p nuclear reaction induced by neutrons incident on a gas cell containing ³He or a mixture of ³He and ⁴He.

[Nist Docket Number: 07-017].

Title: Compact Atomic Magnetometer and Gyroscope Based on a Diverging Laser Beam.

Abstract: This invention is jointly owned by the Department of Commerce, the Defense Advanced Research Projects Agency, the University of California, Protiro, Inc., and Honeywell. A design for an atomic magnetometer that simultaneously achieves high sensitivity, simple fabrication and small size is described. This design is based on a diverging (or converging) beam of light (in a single spatial optical mode) that passes through an alkali atom vapor cell and that contains a distribution of beam propagation vectors. The existence of more than one propagation direction permits longitudinal optical pumping of the atomic system and simultaneous detection of the transverse atomic polarization. The design could be implemented with a micromachined alkali vapor cell and light from a single semiconductor laser. A small modification to the cell contents and excitation geometry allows for use as a gyroscope.

[Nist Docket Number: 07-021].

Title: Simple Matrix Method for Stray-Light Correction in Imaging Instruments.

Abstract: This method uses stray light correction matrix derived from point spread functions (PSF) of an instrument. The correction of stray light errors is simply a matrix multiplication to the measured raw image. The correction is fast and can be used for correction of stray light errors in any types of measured images.

[Nist Docket Number: 07-022]

Title: Covalently Immobilized Fluorinated Carboxylic Acid Stationary Phases for Liquid Chromatography.

Abstract: This invention relates to stationary phases for liquid chromatography, and more particularly, to fluorinated stationary phases for improved separation of constituents in the mobile phase and methods of making.

[Nist Docket Number: 07-025].

Title: Doubling the Service Life of Concrete—Reducing Diffusion Rates via Modification of the Hydrodynamic Friction of the Pore Solution.

Abstract: The invention consists of a unique method to reduce diffusion rates in concrete by increasing the hydrodynamic friction on ionic species in the concrete pore solution. This novel approach involves changing the properties of the pore solution, rather than the microstructure. Conventionally, diffusion rates for concrete structures have been reduced by densifying the cement paste matrix component of the concrete via a reduction in water-to-cement ratio and/or the addition of fine pozzolanic materials such as silica fume and/or fly ash. Still, in every case, the pathways for diffusion are through the interconnected pore solution that saturates the porosity at all scales. By appropriately increasing the hydrodynamic friction, the diffusion rates of all ionic species (sulfates, chlorides, alkalis) can be reduced. Theory indicates that these diffusion rates will be inversely proportional to the solution's hydrodynamic friction coeffcient, so that doubling the hydrodynamic friction will reduce the diffusion coeffcients by a factor of two, which in turn should lead to a doubling of the service life for many degradation modes (sulfate attack, corrosion, etc.).

[Nist Docket Number: 07-027].

Title: Harvesting of Processed Carbon Nanotubes.

Abstract: This invention is jointly owned by the Department of Commerce and the University of Maryland. The invention provides a cost-effective, multi-step, scalable process employing grit shearing to remove the amorphous carbon shell and external catalyst contaminant from carbon nanotubes, separate bundles of nanotubes, and shorten the tubes.

Dated: December 8, 2008.
Patrick Gallagher,
Deputy Director.

[FR Doc. E8-29746 Filed 12-15-08; 8:45 am]

BILLING CODE 3510-13-P